DEPARTMENT OF HOUSING AND URBAN DEVELOPMENT

[Docket No. FR-6182-C-03]

Allocations, Common Application, Waivers, and Alternative Requirements for Disaster Community Development Block Grant Disaster Recovery Grantees; Second Allocation; Correction

AGENCY: Office of General Counsel, HUD.

ACTION: Notice, correction.

SUMMARY: On January 6, 2021, HUD published a notice in the Federal Register entitled, “Allocations, Common Application, Waivers, and Alternative Requirements for Disaster Community Development Block Grant Disaster Recovery Grantees; Second Allocation.” The notice incorrectly stated that under a separate Federal Register notice, HUD will allocate $185,730,000 for mitigation activities. The correct amount is $186,781,000. Today's notice corrects the notice published on January 6, 2021.

DATES: Effective: January 15, 2021.

FOR FURTHER INFORMATION CONTACT: With respect to this technical correction, contact Aaron Santa Anna, Associate General Counsel for Legislation and Regulations, Department of Housing and Urban Development, 451 7th Street SW, Room 10238, Washington, DC 20410; telephone number 202-708-1793 (this is not a toll-free number). Persons with hearing or speech impairments may access this number through TTY by calling the toll-free Federal Information Relay Service at 800-877-8339 (this is a toll-free number).

SUPPLEMENTARY INFORMATION: On January 6, 2021 (86 FR 569) (FR Doc. 2020-29262), HUD issued a public notice allocating a total of $85,291,000 in Community Development Block Grant disaster recovery (CDBG-DR) funds appropriated by the Additional Supplemental Appropriations for Disaster Relief Act, 2019 (the Act), for the purpose of assisting in long-term recovery from major disasters that occurred in 2018 and 2019.

The January 6, 2021 notice stated that under a separate notice HUD will allocate additional funds available under the Act for mitigation activities in the most impacted and distressed areas resulting from a major disaster that occurred in 2018. The January 6, 2021 notice incorrectly listed the additional mitigation funds as $185,730,000 and the correct amount is $186,781,000.

Correction

In the Federal Register of January 6, 2021, in FR Doc. 2020-29262, on page 569, in the second column, first paragraph of the Summary section, replace $185,730,000 with $186,781,000 to read, “Accordingly, under a separate notice, HUD will allocate the remaining $186,781,000 of funds available under the Act for mitigation activities in the most impacted and distressed areas resulting from a major disaster that occurred in 2018.”.

Aaron Santa Anna,
Associate General Counsel for Legislation and Regulations.

[FR Doc. 2021-00745 Filed 1-14-21; 8:45 am]

BILLING CODE 4210-67-P